DEPARTMENT OF THE INTERIOR

Bureau of Indian Affairs

Rate Adjustments for Indian Irrigation Projects

AGENCY: Bureau of Indian Affairs, Interior.

ACTION: Notice of rate adjustments.

SUMMARY: The Bureau of Indian Affairs (BIA) owns, or has an interest in, irrigation facilities located on various Indian reservations throughout the United States. We are authorized to establish rates to recover the costs to administer, operate, maintain, and rehabilitate those facilities. We are notifying you that we have adjusted the irrigation assessment rates at several of our irrigation facilities for operation and maintenance.

DATES: Effective Date: The irrigation assessment rates shown in the tables are effective on January 1, 2006.

FOR FURTHER INFORMATION CONTACT: For details about a particular BIA irrigation project, please use the tables in the SUPPLEMENTARY INFORMATION section to contact the regional or local office where the project is located.

SUPPLEMENTARY INFORMATION: A Notice of Proposed Rate Adjustment was published in the Federal Register on October 4, 2005 (70 FR 151), to adjust the irrigation rates at several BIA irrigation facilities. The public and interested parties were provided an opportunity to submit written comments during the 60-day period prior to December 8, 2005.

Did the BIA Defer Any Proposed Rate Increases?

For the Fort Peck Irrigation Project, the BIA, in consultation with the Assiniboine and Sioux Tribes and Fort Peck Irrigation Project water users, has deferred the rate increase for 2006.

For the Flathead Irrigation Project, the BIA, in consultation with the Flathead Irrigation Project water users, has deferred the rate increase for 2006 until 2007. This notice makes the rate increase final for 2007.

The BIA, in consultation with the Southern Ute Indian Tribe, has decided to raise the final rates for the Pine River Irrigation Project. However, the rate will be less than was proposed in the Notice of Proposed Rate Adjustment published on October 4, 2005.

Did the BIA Receive Any Comments on the Proposed Irrigation Assessment Rate Adjustments?

Written comments were received for the proposed rate adjustments for the Fort Peck Irrigation Project, Montana, the San Carlos Irrigation Project—Joint Works (SCIP-JW), Arizona, and the Pine River Irrigation Project, Colorado.

What Issues Were of Concern to the Commenters?

The commenters were concerned with one or more of the following issues: (1) How funds collected from stakeholders are expended on operation and maintenance; (2) the impact of an assessment rate increase on the local agricultural economy and on individual land owners and irrigators; (3) record keeping practices and sharing this information with water users prior to the proposed rate adjustment notice; and (4) the timeliness of the rate adjustment notice.

How Does BIA Respond to the Concern of How Funds Are Expended for Operation and Maintenance?

BIA includes the following expenses in irrigation project budgets: Project personnel costs; materials and supplies; vehicle and equipment repairs; equipment; capitalization expenses; acquisition expenses; rehabilitation costs; maintenance of a reserve fund for contingencies or emergencies; and other expenses we determine necessary to properly operate and maintain the irrigation projects.

The BIA's budget estimates and records of expenditures for all of its irrigation facilities are public records and available for review by stakeholders or interested parties. Stakeholders (project water users/land owners/tribes) can review these records during normal business hours at the individual agency offices. Alternatively, BIA may treat requests to review project records as requests under the Freedom of Information Act (FOIA) and provide copies of such records to the requesting party in accordance with FOIA. To review or to obtain copies of these records, stakeholders and interested parties are directed to contact the BIA representative at the specific facility serving them using the tables in the SUPPLEMENTARY INFORMATION section.

How Does BIA Respond to Concerns About Irrigation Assessment Rate Increases and Related Impacts on the Local Agricultural Economy and on Individual Land Owners and Irrigators?

All of the BIA's irrigation projects are important economic contributors to the local communities they serve contributing millions in crop value annually. Historically, BIA tempered irrigation rate increases to demonstrate sensitivity to the economic impact on water users. This has resulted in a rate deficiency at most of the irrigation projects.

Over the past several years the BIA's irrigation program has been the subject of several Office of Inspector General (OIG) audits. In the most recent audit, No. 96-I-641, March 1996, the OIG concluded, “Operation and maintenance revenues were insufficient to maintain the projects, and some projects had deteriorated to the extent that their continued capability to deliver water was in doubt. This occurred because operation and maintenance rates were not based on the full cost of delivering water, including the costs of systematically rehabilitating and replacing project facilities and equipment, and because project personnel did not seek regular rate increases to cover the full cost of operation.” This audit recommendation is still outstanding.

A previous OIG audit, No. 88-42, February 1988, reached the same conclusion. A separate audit performed on one of BIA's largest irrigation projects, Wapato Indian Irrigation Project, No. 95-I-1402, September 1995, reinforced the general findings of the OIG on the BIA's irrigation program. This pointed out a lack of response by the BIA to the original findings of the OIG in addressing this critical issue over an extended period of time. The BIA must systematically review and evaluate irrigation assessment rates and adjust them when necessary to reflect the full costs to properly operate, and perform all appropriate maintenance on, the irrigation facility infrastructure for safe and reliable operation. If this review and evaluation is not accomplished, a rate deficiency can eventually accumulate. Overcoming rate deficiencies can result in the BIA having to raise irrigation assessment rates in larger increments and over shorter time frames than would have been otherwise necessary.

In the past, BIA has provided limited appropriated funds to the irrigation projects to assist the projects in their operations and maintenance. Unfortunately, the BIA does not have sufficient discretionary funding to continue this practice in the future. Without the necessary rate increases, the impacts to projects as a result of the lack of adequate operation and maintenance funds could result in the inability to adequately deliver water and maintain irrigation system components.

The following two comments are specific to San Carlos Irrigation Project—Joint Works (SCIP-JW):

How Does BIA Respond to Concerns That There Was Insufficient Consultation in the Rate Setting Process for FY 2007?

BIA consulted with the San Carlos Irrigation and Drainage District (District) several times during CY 2005 concerning the budget information for the current year as well as future years, including the 2007 rate projection. As early as December 16, 2004, at a Fact Finding Meeting, BIA provided the District with a budget and rate projection for the period 2006-2010, indicating that the annual O&M rate was projected to remain at $30/acre for this time period. BIA staff met with the District Board ten times during CY 2005 at which time BIA provided Project budget, expenditure, cash balance, income, and rate information, and reiterated BIA's projection that the $30/acre O&M rate was likely to remain constant from 2006-2010 in order for BIA to operate and maintain the Project adequately, maintain a sufficient reserve account for emergencies, and to build up a sinking fund for major capital projects that need to be funded in the future, such as well replacements. BIA was available at each of these ten meetings to respond to any questions about the 2007 O&M rate. The District's comments at these meetings made it clear that the District does not support a $30/acre annual O&M rate.

BIA notes that the Arizona Water Settlement Act, Public Law 108-451, is in the implementation stage, and that under this Act and the implementing agreements, BIA's relationship with the District and the Gila River Indian Community (Community) concerning the operation and maintenance activities and associated budget and rate assessment of the SCIP-JW will be modified after 2007. During the next 2 years, BIA will be working with the District and the Community to implement these new provisions.

How Does BIA Respond to Concerns That It Failed To Set the Rate in a Timely Manner?

The non-Indian water users in SCIP-JW expressed concern that the 2007 rate was not set in time for the necessary taxes to be assessed by July 1, 2005, and collected by the payment due date of May 15, 2006. The proposed budget and documentation for the 2007 O&M rate was provided by the SCIP-JW to the water users by as early as December 16, 2004, indicating that the rate for 2007 was projected to remain the same as for 2006 ($30/acre), and that the $30/acre rate was likely to remain in effect for the period 2006-2010. As such, we believe water users had time to plan for the requisite tax assessments and collections for the 2007 rate assessment.

Did the BIA Receive Comments on Any Proposed Changes Other Than Rate Adjustments?

No.

Does This Notice Affect Me?

This notice affects you if you own or lease land within the assessable acreage of one of our irrigation projects, or you have a carriage agreement with one of our irrigation projects.

Where Can I Get Information on the Regulatory and Legal Citations in This Notice?

You can contact the appropriate office(s) stated in the tables for the irrigation project that serves you, or you can use the Internet site for the Government Printing Office at http://www.gpo.gov.

What Authorizes You To Issue This Notice?

Our authority to issue this notice is vested in the Secretary of the Interior by 5 U.S.C. 301 and the Act of August 14, 1914 (38 Stat. 583; 25 U.S.C. 385). The Secretary has in turn delegated this authority to the Assistant Secretary—Indian Affairs under Part 209, Chapter 8.1A, of the Department of the Interior's Departmental Manual.

Who Can I Contact for Further Information?

The following tables are the regional and project/agency contacts for our irrigation facilities.

Northwest Region Contacts
Stanley Speaks, Regional Director, Bureau of Indian Affairs, Northwest Regional Office, 911 NE. 11th Avenue, Portland, Oregon 97232-4169, Telephone: (503) 231-6702.
Project name | Project/Agency contacts
Flathead Irrigation Project | Ernest T. Moran, Superintendent, Flathead Agency Irrigation Division, P.O. Box 40, Pablo, MT 59855-0040, Telephone: (406) 675-2700.
Fort Hall Irrigation Project | Eric J. LaPointe, Superintendent, Alan Oliver, Irrigation Project Engineer, Fort Hall Agency, P.O. Box 220, Fort Hall, ID 83203-0220, Telephone: (208) 238-2301.
Wapato Irrigation Project | Pierce Harrison, Project Administrator, Wapato Irrigation Project, P.O. Box 220, Wapato, WA 98951-0220, Telephone: (509) 877-3155.
Rocky Mountain Region Contacts
Keith Beartusk, Regional Director, Bureau of Indian Affairs, Rocky Mountain Regional Office, 316 North 26th Street, Billings, Montana 59101, Telephone: (406) 247-7943.
Project name | Project/Agency contacts
Blackfeet Irrigation Project | Cliff Hall, Acting Superintendent; Ted Hall, Irrigation Project Manager, Box 880, Browning, MT 59417, Telephones: (406) 338-7544, Superintendent; (406) 338-7519, Irrigation.
Crow Irrigation Project | Ed Lone Fight, Superintendent; Karl Helvik, Irrigation Project Manager, P.O. Box 69, Crow Agency, MT 59022, Telephones: (406) 638-2672; Superintendent (406) 638-2863, Irrigation.
Fort Belknap Irrigation Project | Judy Gray, Superintendent; Ralph Leo, Irrigation Project Manager, R.R.1, Box 980, Harlem, MT 59526, Telephones: (406) 353-2901, Superintendent; (406) 353-2905, Irrigation.
Fort Peck Irrigation Project | Spike Bighorn, Superintendent, P.O. Box 637, Poplar, MT 59255; Vacant, Irrigation Manager 602 6th Avenue North, Wolf Point, MT 59201, Telephones: (406) 768-5312, Superintendent; (406) 653-1752, Irrigation.
Wind River Irrigation Project | George Gover, Superintendent; Ray Nation, Acting Irrigation Project Manager, P.O. Box 158, Fort Washakie, WY 82514, Telephones: (307) 332-7810, Superintendent; (307) 332-2596, Irrigation.
Southwest Region Contacts
Larry Morrin, Regional Director, Bureau of Indian Affairs, Southwest Regional Office, 1001 Indian School Road, Albuquerque, New Mexico 87104, Telephone: (505) 563-3100.
Project name | Project/Agency contacts
Pine River Irrigation Project | Ross P. Denny, Superintendent; John Formea, Irrigation Engineer, P.O. Box 315, Ignacio, CO 81137-0315, Telephones: (970) 563-4511, Superintendent; (970) 563-1017, Irrigation.
Western Region Contacts
Brian Bowker, Acting Regional Director, Bureau of Indian Affairs, Western Regional Office, P.O. Box 10, Phoenix, Arizona 85001, Telephone: (602) 379-6600.
Project name | Project/Agency contacts
Colorado River Irrigation Project | Rodney McVey, Acting Superintendent; Ted Henry, Irrigation Project Manager, R.R. 1 Box 9-C, Parker, AZ 85344, Telephone: (928) 669-7111.
Duck Valley Irrigation Project | Virgil Townsend, Superintendent, 1555 Shoshone Circle, Elko, NV 89801, Telephone: (775) 738-0569.
Fort Yuma Irrigation Project | William Pyott, Land Operations Officer, P.O. Box 11000, Yuma, AZ 85366, Telephone: (520) 782-1202.
San Carlos Irrigation Project Joint Works | Carl Christensen, Supervisory General Engineer, P.O. Box 250, Coolidge, AZ 85228, Telephone: (520) 723-6216
San Carlos Irrigation Project Indian Works | Joe Revak, Supervisory General Engineer, Pima Agency, Land Operations, Box 8, Sacaton, AZ 85247, Telephone: (520) 562-3372.
Uintah Irrigation Project | Lynn Hansen, Irrigation Manager, P.O. Box 130, Fort Duchesne, UT 84026, Telephone: (435) 722-4341.
Walker River Irrigation Project | Robert Hunter, Superintendent, 1677 Hot Springs Road, Carson City, NV 89706, Telephone: (775) 887-3500.

What Irrigation Assessments or Charges are Proposed for Adjustment by This Notice?

The rate table below contains the current rates for all of our irrigation projects where we recover our costs for operation and maintenance. The table also contains the proposed rates for the 2006 season and subsequent years where applicable. An asterisk immediately following the name of the project notes the irrigation projects where rates are proposed for adjustment.

Northwest Region Rate Table
Project name | Rate category | Final 2005 rate | Final 2006 rate | Final 2007 rate
Flathead Irrigation Project (see Note #2) * | Basic Per acre | $21.45 | $21.45 | $23.45.
Fort Hall Irrigation Project * | Basic Per acre | 22.00 | 24.00 | To be determined.
Fort Hall Irrigation Project—Minor Units * | Basic Per acre | 14.00 | 15.00 | To be determined.
Fort Hall Irrigation Project—Michaud * | Basic Per acre | 33.00 | 34.00 | To be determined.
| Pressure Per acre | 46.50 | 48.50 | To be determined.
Wapato Irrigation Project—Toppenish/Simcoe Units * | Billing Charge Per Tract | 5.00 | 5.00 | To be determined.
| Farm unit/land tracts up to one acre (minimum charge) | 13.00 | 13.50 | To be determined.
| Farm unit/land tracts over one acre—per acre | 13.00 | 13.50 | To be determined.
Wapato Irrigation Project—Ahtanum Units * | Billing Charge Per Tract | 5.00 | 5.00 | To be determined.
| Farm unit/land tracts up to one acre (minimum charge) | 13.00 | 13.50 | To be determined.
| Farm unit/land tracts over one acre—per acre | 13.00 | 13.50 | To be determined.
Wapato Irrigation Project—Satus Unit * | Billing Charge Per Tract | 5.00 | 5.00 | To be determined.
| Farm unit/land tracts up to one acre (minimum charge) | 51.00 | 53.00 | To be determined.
| “A” farm unit/land tracts over one acre—per acre | 51.00 | 53.00 | To be determined.
| Additional Works farm unit/land tracts over one acre—per acre | 56.00 | 58.00 | To be determined.
| “B” farm unit/land tracts over one acre—per acre | 61.00 | 63.00 | To be determined.
| Water Rental Agreement Lands—per acre | 62.00 | 64.50 | To be determined.

Rocky Mountain Region Rate Table
Project name | Rate category | Final 2005 rate | Final 2006 rate | Final 2007 rate
Blackfeet Irrigation Project | Basic-per acre | $13.00 | $13.00 | To be determined.
Crow Irrigation Project—Willow * Creek O&M | Basic-per acre | 16.00 | 17.30
Crow Irrigation * Project—All Others | Basic-per acre | 16.00 | 17.00
Fort Belknap * Irrigation Project | Trust Land per acre | 7.75 | 8.50 | $9.25.
| Non-Trust Land per acre | 15.50 | 17.00 | 18.50.
Fort Peck Irrigation Project * | Basic-per acre | 17.50 | 17.50 | To be determined.
Wind River Irrigation Project | Basic-per acre | 14.00 | 14.00
Wind River Irrigation Project—LeClair District | Basic-per acre | 17.00 | 17.00

Southwest Region Rate Table
Project name | Rate category | Final 2005 rate | Final 2006 rate
Pine River Irrigation Project * | Minimum Charge per tract | $25.00 | $50.00.
| Basic-per acre | 8.50 | 13.00.
| Carriage Contract annual rate |  | 100.00.

Western Region Rate Table
Project name | Rate category | Final 2005 rate | Final 2006 rate | Final 2007 rate
Colorado River Irrigation Project | Basic per acre up to 5.75 acre-feet | $47.00 | $47.00 | To be determined.
| Excess Water per acre-foot over 5.75 acre-feet | 17.00 | 17.00
Duck Valley Irrigation Project | Basic-per acre | 5.30 | 5.30
Fort Yuma Irrigation Project (See Note #1) | Basic-per acre up to 5.0 acre-feet | 65.00 | 65.00
| Excess Water per acre-foot over 5.0 acre-feet | 10.50 | 10.50
San Carlos Irrigation Project (Joint Works) (See Note #2) | Basic-per acre | 30.00 | 30.00 | 30.00
San Carlos Irrigation Project (Indian Works) | Basic-per acre | 77.00 | 77.00 | To be determined.
Uintah Irrigation Project | Basic-per acre | 11.00 | 12.00
| Minimum Bill | 25.00 | 25.00
Walker River Irrigation Project | Indian per acre | 7.32 | 7.32
| Non-Indian per acre | 15.29 | 15.29
* Notes irrigation projects where rates are proposed for adjustment.
Note #1—The Fort Yuma Irrigation Project is owned and operated by the Bureau of Reclamation (Reclamation). The irrigation rates assessed for operation and maintenance are established by Reclamation and are provided for informational purposes only. The BIA collects the irrigation assessments on behalf of Reclamation.
Note #2—The 2007 irrigation rate per acre is established through this notice.

Consultation and Coordination With Tribal Governments (Executive Order 13175)

The BIA irrigation projects are vital components of the local agriculture economy of the reservations on which they are located. To fulfill its responsibilities to the tribes, tribal organizations, water user organizations, and the individual water users, the BIA communicates, coordinates, and consults on a continuing basis with these entities on issues of water delivery, water availability, costs of administration, operation, maintenance, and rehabilitation. This is accomplished at the individual irrigation projects by Project, Agency, and Regional representatives, as appropriate, in accordance with local protocol and procedures. This notice is one component of the BIA's overall coordination and consultation process to provide notice and request comments from these entities on adjusting our irrigation rates.

Actions Concerning Regulations That Significantly Affect Energy Supply, Distribution, or Use (Executive Order 13211)

The rate adjustments will have no adverse effects on energy supply, distribution, or use (including a shortfall in supply, price increases, and increased use of foreign supplies) should the proposed rate adjustments be implemented. This is a notice for rate adjustments at BIA owned and operated irrigation projects, except for the Fort Yuma Irrigation Project. The Fort Yuma Irrigation Project is owned and operated by the Bureau of Reclamation with a portion serving the Fort Yuma Reservation.

Regulatory Planning and Review (Executive Order 12866)

These rate adjustments are not a significant regulatory action and do not need to be reviewed by the Office of Management and Budget under Executive Order 12866.

Regulatory Flexibility Act

This rate making is not a rule for the purposes of the Regulatory Flexibility Act because it is “a rule of particular applicability relating to rates.” (5 U.S.C. 601 et seq.)

Unfunded Mandates Act of 1995

These rate adjustments impose no unfunded mandates on any governmental or private entity and are in compliance with the provisions of the Unfunded Mandates Act of 1995.

Takings (Executive Order 12630)

The Department has determined that these rate adjustments do not have significant “takings” implications. The rate adjustments do not deprive the public, state, or local governments of rights or property.

Federalism (Executive Order 13132)

The Department has determined that these rate adjustments do not have significant Federalism effects because they pertain solely to Federal-tribal relations and will not interfere with the roles, rights, and responsibilities of states.

Civil Justice Reform (Executive Order 12988)

In accordance with Executive Order 12988, the Office of the Solicitor has determined that this notice does not unduly burden the judicial system and meets the requirements of sections 3(a) and 3(b)(2) of the Order.

Paperwork Reduction Act of 1995

These rate adjustments do not affect the collections of information which have been approved by the Office of Information and Regulatory Affairs, Office of Management and Budget (OMB), under the Paperwork Reduction Act of 1995. The OMB Control Number is 1076-0141 and expires April 30, 2006.

National Environmental Policy Act

The Department has determined that these rate adjustments do not constitute a major Federal action significantly affecting the quality of the human environment and that no detailed statement is required under the National Environmental Policy Act of 1969 (42 U.S.C. 4321-4370(d)).

Dated: March 20, 2006.
Michael D. Olsen,
Acting Principal Deputy Assistant Secretary—Indian Affairs.

[FR Doc. E6-4945 Filed 4-4-06; 8:45 am]

BILLING CODE 4310-W7-P